SURFACE TRANSPORTATION BOARD

[Docket No. AB 55 (Sub-No. 773X)]

CSX Transportation, Inc.—Abandonment Exemption—in Harlan County, KY

On July 18, 2017, CSX Transportation, Inc. (CSXT), filed with the Surface Transportation Board (Board) a petition under 49 U.S.C. 10502 for exemption from the provisions of 49 U.S.C. 10903 to abandon an approximately 1.6-mile rail line on CSXT's Northern Region, Huntington Division, CV Subdivision, Engineering Appalachian Division, also known as the Merna Spur, between milepost OMV 250.1 at the end of the line and milepost OMV 248.5 at the wye connecting to the CSXT Glidden Siding in Harlan County, KY (the Line).¹ The Line traverses United States Postal Zip Code 40818, and includes the Creech Station (FSAC 43739/OPSL 20395) at milepost OMV 250.

¹ According to CSXT, the Line was previously part of the Southern Region but, through a reorganization, it is now a part of the Northern Region. CSXT was authorized to discontinue service over the Line in 2016. CSX Transp.—Discontinuance of Serv. Exemption—in Harlan Cty., Ky., AB 55 (Sub-No. 753X) (STB served Feb. 18, 2016).

CSXT states that the Line does not contain federally granted rights-of-way. Any documentation in CSXT's possession will be made available promptly to those requesting it.

The interest of railroad employees will be protected by the conditions set forth in Oregon Short Line Railroad—Abandonment Portion Goshen Branch Between Firth & Ammon, In Bingham & Bonneville Counties, Idaho, 360 I.C.C. 91 (1979).

By issuing this notice, the Board is instituting an exemption proceeding pursuant to 49 U.S.C. 10502(b). A final decision will be issued by November 3, 2017.

Any offer of financial assistance (OFA) under 49 CFR 1152.27(b)(2) will be due no later than 10 days after service of a decision granting the petition for exemption. Each OFA must be accompanied by a $1,800 filing fee. See 49 CFR 1002.2(f)(25).²

² The OFA filing fee is currently set at $1,700. See 49 CFR 1002.2(f)(25). Effective September 1, 2017, the fee will become $1,800. See Regulations Governing Fees for Servs. Performed in Connection with Licensing & Related Servs.—2017 Update, EP 542 (Sub-No. 25), slip op. app. C at 20 (STB served July 28, 2017).

All interested persons should be aware that, following abandonment, the Line may be suitable for other public use, including interim trail use. Any request for a public use condition under 49 CFR 1152.28 or for trail use/rail banking under 49 CFR 1152.29 will be due no later than August 28, 2017. Each trail request must be accompanied by a $300 filing fee. See 49 CFR 1002.2(f)(27).

All filings in response to this notice must refer to Docket No. AB 55 (Sub-No. 773X) and must be sent to: (1) Surface Transportation Board, 395 E Street SW., Washington, DC 20423-0001; and (2) Louis E. Gitomer, Law Offices of Louis E. Gitomer, 600 Baltimore Avenue, Suite 301, Towson, MD 21204. Replies to the petition are due on or before August 28, 2017.

Persons seeking further information concerning abandonment procedures may contact the Board's Office of Public Assistance, Governmental Affairs and Compliance at (202) 245-0238 or refer to the full abandonment regulations at 49 CFR part 1152. Questions concerning environmental issues may be directed to the Board's Office of Environmental Analysis (OEA) at (202) 245-0305. Assistance for the hearing impaired is available through the Federal Information Relay Service at 1-800-877-8339.

An environmental assessment (EA) (or environmental impact statement (EIS), if necessary) prepared by OEA will be served upon all parties of record and upon any other agencies or persons who comment during its preparation. Other interested persons may contact OEA to obtain a copy of the EA (or EIS). EAs in abandonment proceedings normally will be made available within 60 days of the filing of the petition. The deadline for submission of comments on the EA generally will be within 30 days of its service.

Board decisions and notices are available on our Web site at WWW.STB.GOV.

Decided: August 2, 2017.
By the Board, Rachel D. Campbell, Director, Office of Proceedings.
Jeffrey Herzig,
Clearance Clerk.

[FR Doc. 2017-16654 Filed 8-4-17; 8:45 am]

BILLING CODE 4915-01-P